ENVIRONMENTAL PROTECTION AGENCY

[EPA-HQ-OPP-2017-0070; FRL-9959-66]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations and to amend their product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before May 10, 2017.

ADDRESSES: Submit your comments, identified by docket identification (ID) number EPA-HQ-OPP-2017-0070, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by EPA of requests from registrants to cancel certain pesticide products and amend product registrations to terminate certain uses. The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredient
100-1079 | 100 | Bonzi II Ornamental Growth Regulator | Paclobutrazol.
241-362 | 241 | Pursuit Dimethenamid Herbicide | Imazethapyr; & Dimethenamid.
279-9563 | 279 | Rovral Fungicide | Iprodione.
279-9565 | 279 | Rovral R Flowable Fungicide | Iprodione.
279-9566 | 279 | Rovral WG Fungicide | Iprodione.
279-9567 | 279 | Rovral 50 SP Fungicide | Iprodione.
279-9569 | 279 | Rovral Brand 75WG Fungicide | Iprodione.
303-223 | 303 | Beaucoup Germicidal Detergent | 2-Benzyl-4-chlorophenol; 4-tert-Amylphenol; & o-Phenylphenol (NO INERT USE).
464-705 | 464 | Ucarcide 250 Preservative | Glutaraldehyde.
464-706 | 464 | Ucarcide 225 Preservative | Glutaraldehyde.
498-180 | 498 | Champion Sprayon Disinfectant Formula 4 | Isopropyl alcohol; & o-Phenylphenol (NO INERT USE).
706-69 | 706 | Claire Disinfectant Spray | Ethanol; 4-tert-Amylphenol; & o-Phenylphenol (NO INERT USE).
875-191 | 875 | KL-IS | Phosphoric acid; & Oxirane, methyl-, polymer with oxirane, monobutyl ether, compd. with iodine.
954-13 | 954 | Spacide | 2-Benzyl-4-chlorophenol; & o-Phenylphenol (NO INERT USE).
1020-4 | 1020 | Oakite Chlor-Tergent | Trichloro-s-triazinetrione.
1072-11 | 1072 | K.O. Dyne | Nonylphenoxypolyethoxyethanol-iodine complex.
1072-19 | 1072 | Babsyne-20 | Nonylphenoxypolyethoxyethanol-iodine complex.
1270-237 | 1270 | Zep Refresh II | Ethanol; 4-tert-Amylphenol; & o-Phenylphenol (NO INERT USE).
1839-189 | 1839 | BTC 2125M-RTU200 Sanitizer | Alkyl* dimethyl ethylbenzyl ammonium chloride *(68%C12, 32%C14); & Alkyl* dimethyl benzyl ammonium chloride *(60%C14, 30%C16, 5%C18, 5%C12).
2296-101 | 2296 | Easy-Dab Bacteriostatic Creme Cleanser | o-Phenylphenol (NO INERT USE).
5813-84 | 5813 | Necktie | 1,3-Dichloro-5-ethyl-5-methylhydantoin; 1,3-Dichloro-5,5-dimethylhydantoin; & 2,4-Imidazolidinedione, 1-bromo-3-chloro-5,5-dimethyl-.
7969-148 | 7969 | BAS 661 00 H | Dicamba; & Dimethenamid.
10324-25 | 10324 | Maquat DS 1412-10% | Alkyl* dimethyl benzyl ammonium chloride *(50%C14, 40%C12, 10%C16).
10324-74 | 10324 | Aqua Foaming Bowl & Bathroom Cleaner | Alkyl* dimethyl benzyl ammonium chloride *(50%C14, 40%C12, 10%C16).
10324-89 | 10324 | Maquat MC5814-80% | Alkyl* dimethyl benzyl ammonium chloride *(58%C14, 28%C16, 14%C12).
10324-95 | 10324 | Ma-Brom | Sodium bromide.
10324-123 | 10324 | Econo-Lemon 10 Scented | Alkyl* dimethyl benzyl ammonium chloride *(58%C14, 28%C16, 14%C12).
10324-137 | 10324 | Maquat FL-1 | Alkyl* dimethyl benzyl ammonium chloride *(58%C14, 28%C16, 14%C12).
10324-138 | 10324 | Maquat FL-2 | Alkyl* dimethyl benzyl ammonium chloride *(58%C14, 28%C16, 14%C12).
10324-169 | 10324 | Maquat 615-MR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-174 | 10324 | Maquat 86-MR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-184 | 10324 | Maquat 86-HMR | Alkyl* dimethyl benzyl ammonium chloride *(50%C14, 40%C12, 10%C16); 1-Octanaminium, N,N-dimethyl-N-octyl-, chloride; 1-Decanaminium, N-decyl-N,N-dimethyl-, chloride; & 1-Decanaminium, N,N-dimethyl-N-octyl-, chloride.
10324-197 | 10324 | Maguard QSX-500 | 1-Octadecanaminium,N,N-dimethyl-N-[3-(trihydroxysilyl)propyl],chloride.
10324-199 | 10324 | Maquat MC1412-50%FC | Alkyl* dimethyl benzyl ammonium chloride *(50%C14, 40%C12, 10%C16).
10324-200 | 10324 | Maquat MC1412-20%FC | Alkyl* dimethyl benzyl ammonium chloride *(50%C14, 40%C12, 10%C16).
10324-203 | 10324 | Maquat MC1412-40%FC | Alkyl* dimethyl benzyl ammonium chloride *(50%C14, 40%C12, 10%C16).
10324-217 | 10324 | STIX | Alkyl* dimethyl benzyl ammonium chloride *(50%C14, 40%C12, 10%C16); & Phosphoric acid.
10324-218 | 10324 | Kling | Hydrochloric acid; 1-Decanaminium, N,N-dimethyl-N-octyl-, chloride; Alkyl* dimethyl benzyl ammonium chloride *(50%C14, 40%C12, 10%C16); 1-Octanaminium, N,N-dimethyl-N-octyl-, chloride; & 1-Decanaminium, N-decyl-N,N-dimethyl-, chloride.
10807-438 | 10807 | Purge Air Sanitizer | Dipropylene glycol; Alkyl* dimethyl benzyl ammonium chloride *(50%C14, 40%C12, 10%C16); & Triethylene glycol.
33176-24 | 33176 | Arysol Brand Surface Disinfectant Spray | Ethanol; Alkyl* dimethyl benzyl ammonium chloride *(60%C14, 30%C16, 5%C18, 5%C12); & Alkyl* dimethyl ethylbenzyl ammonium chloride *(68%C12, 32%C14).
39967-81 | 39967 | Hospital Broad Brand | 2-Benzyl-4-chlorophenol; 4-tert-Amylphenol; & o-Phenylphenol (NO INERT USE).
39967-83 | 39967 | Ocide Hospital Cleaner-Disinfectant | 2-Benzyl-4-chlorophenol; 4-tert-Amylphenol; & o-Phenylphenol (NO INERT USE).
39967-88 | 39967 | Phenocide 256 | 2-Benzyl-4-chlorophenol; & o-Phenylphenol (NO INERT USE).
39967-89 | 39967 | Phenocide 128 | 2-Benzyl-4-chlorophenol; & o-Phenylphenol (NO INERT USE).
47000-19 | 47000 | Dy-Fly I Livestock Spray | MGK 264; Pyrethrins; & Piperonyl butoxide.
47000-101 | 47000 | CT-42 Lice Spray | Pyrethrins; & Piperonyl butoxide.
48222-7 | 48222 | Agro-K Copper Lite | Copper sulfate pentahydrate.
49547-5 | 49547 | Alen Pine Oil 60 | Pine oil.
51873-8 | 51873 | De-Cut | Maleic hydrazide, potassium salt.
57538-29 | 57538 | Fortified Stimulate Yield Enhancer | Indole-3-acetic acid; Indole-3-butyric acid; Gibberellic acid; & Cytokinin (as kinetin).
57538-36 | 57538 | Stimulate Fruit Thinner | Gibberellic acid; & Cytokinin (as kinetin).
57538-37 | 57538 | Stimulate Grain Filler | Indole-3-butyric acid; Gibberellic acid; & Cytokinin (as kinetin).
57538-38 | 57538 | Stimulate Power | Cytokinin (as kinetin); & Gibberellic acid.
57538-44 | 57538 | Stimulate Flower Fertility | Indole-3-acetic acid; Indole-3-butyric acid; Gibberellic acid; & Cytokinin (as kinetin).
57538-45 | 57538 | Stimulate Bud Former | Cytokinin (as kinetin); & Gibberellic acid.
57538-46 | 57538 | Stimulate Seed Germ | Indole-3-acetic acid; Indole-3-butyric acid; Gibberellic acid; & Cytokinin (as kinetin).
57538-47 | 57538 | Stimulate Fruit Sizer | Indole-3-butyric acid; Indole-3-acetic acid; Gibberellic acid; & Cytokinin (as kinetin).
57538-48 | 57538 | Stimulate Root Growth | Gibberellic acid; Indole-3-butyric acid; & Cytokinin (as kinetin).
59106-3 | 59106 | BioClear 550 Fizzy Tabs | 2,2-Dibromo-3-nitrilopropionamide; & 1-Bromo-1-(bromomethyl)-1,3-propanedicarbonitrile.
70385-1 | 70385 | Microban Disinfectant Spray | Bromine; o-Phenylphenol (NO INERT USE); & Benzenemethanaminium, N,N-dimethyl-N-(2-(2-(4-(1,1,3,3-tetramethylbutyl)phenoxy)ethoxy)ethyl)-, chloride.
72138-1 | 72138 | Real Pine Cleaner Disinfectant Deodorizer | Pine oil.
87538-3 | 87538 | Monofoil Screen/Glass Protectant | 1-Octadecanaminium,N,N-dimethyl-N-[3-(trihydroxysilyl)propyl],chloride.
CA-060027 | 100 | Gramoxone Inteon | Paraquat dichloride.
CO-120003 | 12455 | Contrac All-Weather Blox | Bromadiolone.
OR-070024 | 400 | Enhance | Captan; & Carboxin.
OR-080021 | 66222 | ABBA 0.15EC | Abamectin.
OR-080022 | 91411 | DuPont Mankocide Fungicide | Mancozeb; & Copper hydroxide.
OR-080032 | 400 | Dimilin 2L | Diflubenzuron.
OR-110003 | 264 | Osprey Herbicide | Mesosulfuron-methyl.
OR-110012 | 400 | Vitavax Flowable Fungicide | Carboxin.
OR-120008 | 100 | Switch 62.5WG | Fludioxonil; & Cyprodinil.
WA-000033 | 19713 | IDA, Inc. Diuron 80W | Diuron.
WA-000034 | 19713 | Drexel Diuron 4L Herbicide | Diuron.
WA-030012 | 66222 | Galigan 2E | Oxyfluorfen.
WA-030024 | 66222 | Thionex 3 EC Insecticide | Endosulfan.
WA-030027 | 66222 | Thionex 3 EC Insecticide | Endosulfan.
WA-050010 | 19713 | Drexel Atrazine 90 DF Herbicide | Atrazine.
WA-110005 | 61842 | Lorox DF | Linuron.

Table 2—Product Registrations With Pending Requests for Amendment
Registration No. | Company No. | Product name | Active ingredient | Uses to be terminated
100-780 | 100 | Tilt 45W | Propiconazole | Pre-Harvest uses and associated pre-harvest label language on Tilt 45W for the following crops: Celery, cereals (wheat, barley, rye, triticale and oats), citrus, grasses grown for seed, peanuts, pecans, pineapple, rice, wild rice, stone fruit and sugarcane without prejudice.
264-645 | 264 | Glufosinate-Ammonium Manufacturing-Use Product | Glufosinate | Rice.
264-646 | 264 | Glufosinate-Ammonium Technical | Glufosinate | Rice.
264-660 | 264 | Liberty Herbicide | Glufosinate | Rice.
264-829 | 264 | Liberty 280 SL Herbicide | Glufosinate | Rice.
432-1525 | 432 | Sevin Brand Carbaryl Technical | Carbaryl | Oyster beds & pet (collars only).
1021-2801 | 1021 | MGK Formula 74611 | Pyrethrins | Residential Indoor, residential outdoor & indoor non-food/food handling establishments.
1839-63 | 1839 | BTC 1010 | 1-Decanaminium, N-decyl-N,N-dimethyl-, chloride | Golf/commercial turf/lawns, golf courses.
1839-77 | 1839 | BTC 818 | 1-Octanaminium, N,N-dimethyl-N-octyl-, chloride; 1-Decanaminium, N-decyl-N,N-dimethyl-, chloride; & 1-Decanaminium, N,N-dimethyl-N-octyl-, chloride | Golf courses.
1839-119 | 1839 | BTC 818-80% | 1-Decanaminium, N,N-dimethyl-N-octyl-, chloride; 1-Octanaminium, N,N-dimethyl-N-octyl-, chloride; & 1-Decanaminium, N-decyl-N,N-dimethyl-, chloride | Golf courses.
1839-135 | 1839 | BTC 1010-80% | 1-Decanaminium, N-decyl-N,N-dimethyl-, chloride | Golf/commercial turf/lawns, golf courses.
19713-75 | 19713 | Drexel Carbaryl Technical | Carbaryl | Oyster beds & bet collars.
61842-20 | 61842 | Layby Pro Herbicide | Diuron; & Linuron | Sweet corn.
61842-21 | 61842 | Linex 4L Herbicide | Linuron | Sweet corn.
61842-22 | 61842 | Linuron Technical | Linuron | Sweet corn.
61842-23 | 61842 | Lorox DF | Linuron | Sweet corn.
61842-24 | 61842 | Linuron Flake Technical | Linuron | Sweet corn.
61842-32 | 61842 | Linuron Technical | Linuron | Sweet corn.
61842-35 | 61842 | Sevin Brand Technical Carbaryl Insecticide | Carbaryl | Oyster beds & pet (collars only).
61842-36 | 61842 | Carbaryl 97.5% Manufacturing Use Concentrate Insecticide | Carbaryl | Oyster beds & pet (collars only).
73049-427 | 73049 | Foray 48B | Bacillus thuringiensis Subsp. Kurstaki, Strain ABTS-351 | Non-grass animal feeds, pome fruits, stone fruits, tree nuts, citrus fruits, small fruits and berries, grape, banana, tropical fruits, kiwi, pineapple, melon, root and tuber vegetables, leaves of root and tuber vegetables, bulb vegetables, leafy vegetables, legume vegetables, foliage of legume vegetables, fruiting vegetables, brassica (cole) leafy vegetables, cucurbit vegetables, artichoke, asparagus, malanga, watercress, corn, herbs and spices, mint, avocado, rice, cotton, canola/rapeseed, hops, jojoba, peanut, persimmon, pomegranate, safflower, sorghum, soybean, sunflower, small grains & tobacco.
89816-2 | 89816 | Mebrom 100 | Methyl bromide (NO INERT USE) | Caneberries, (raspberries, blackberries, boysenberries), golf course tees, greens and fairways, athletic fields, tobacco seedling trays, orchard replant, ornamentals and forest seedlings.
90736-2 | 90736 | Tebuconazole Tech | Tebuconazole | Seed treatment uses on barley, corn, oats & wheat.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA company No. | Company name and address
100 | Syngenta Crop Protection, LLC, 410 Swing Road, P.O. Box 18300, Greensboro, NC 27419-8300.
241 | BASF Corporation, 26 Davis Drive, P.O. Box 13528, Research Triangle Park, NC 27709-3528.
264 | Bayer CropScience LP, 2 T. W. Alexander Drive, P.O. Box 12014, Research Triangle Park, NC 27709.
279 | FMC Corporation, 2929 Walnut Street, Philadelphia, PA 19104.
303 | Huntington Professional Products, A Service of Ecolab, Inc., 1 Ecolab Place, St. Paul, MN 55102.
400 | Macdermid Agricultural Solutions, Inc., c/o Arysta LifeScience North America, LLC, 15401 Weston Parkway, Suite 150, Cary, NC 27513.
432 | Bayer Environmental Science, A Division of Bayer CropScience, LP, 2 T. W. Alexander Drive, Research Triangle Park, NC 27709.
464 | The Dow Chemical Co., 1501 Larkin Center Drive, 200 Larkin Center, Midland, MI 48674.
498 | Chase Products Co., P.O. Box 70, Maywood, IL 60153.
706 | Claire Manufacturing Company, Agent Name: Regwest Company, LLC, 8203 West 20th Street, Suite A, Greeley, CO 80634-4696.
875 | Diversey, Inc., 1410 Newman Road, Racine, WI 53406.
954 | King Research, Inc., Agent Name: Lewis & Harrison, LLC, 122 C Street NW., Suite 505, Washington, DC 20001.
1020 | Chemetall US, Inc., 675 Central Avenue, New Providence, NJ 07974-0007.
1021 | McLaughlin Gormley King Company, 8810 Tenth Ave., North, Minneapolis, MN 55427-4319.
1072 | Gea Farm Technologies, Inc., Agent Name: Regwest Company, LLC, 8203 West 20th Street, Suite A, Greeley, CO 80634-4696.
1270 | Zep, Inc., c/o Compliance Services, 1259 Seaboard Industrial Blvd., NW, Atlanta, GA 30318.
1839 | Stepan Company, 22 W. Frontage Rd., Northfield, IL 60093.
2296 | National Chemical Laboratories, Inc., 401 N. 10th Street, Philadelphia, PA 19123.
5813 | The Clorox Co., P.O. Box 493, Pleasanton, CA 94566-0803.
7969 | BASF Corporation, 26 Davis Drive, P.O. Box 13528, Research Triangle Park, NC 27709-3528.
10324 | Mason Chemical Company, 723 W. Algonquin Rd., Suite B, Arlington Heights, IL 60005.
10807 | Amrep, Inc., Agent Name: Zep, Inc., c/o Compliance Services, 1259 Seaboard Industrial Blvd. NW., Atlanta, GA 30318.
12455 | Bell Laboratories, Inc., 3699 Kinsman Blvd., Madison, WI 53704.
19713 | Drexel Chemical Company, P.O. Box 13327, Memphis, TN 38113-0327.
33176 | Amrep, Inc., Agent Name: Zep, Inc., c/o Compliance Services, 1259 Seaboard Industrial Blvd. NW., Atlanta, GA 30318.
39967 | Lanxess Corporation, 111 RIDC Park West Drive, Pittsburgh, PA 15275-1112.
47000 | Chem-Tech, Ltd., 110 Hopkins Drive, Randolph, WI 53956.
48222 | Agro-K Corporation, Agent Name: Spring Trading Company, 203 Dogwood Trail, Magnolia, TX 77354.
49547 | Alen Del Norte, Agent Name: Delta Analytical Corp., 12510 Prosperity Drive, Suite 160, Silver Spring, MD 20904.
51873 | Fair Products, Inc., P.O. Box 386, Cary, NC 27512.
57538 | Stoller Enterprises, Inc., Agent Name: Spring Trading Company, 203 Dogwood Trail, Magnolia, TX 77354.
59106 | The Lubrizol Corporation, 29400 Lakeland Blvd., Wickliffe, OH 44092-2298.
61842 | Tessenderlo Kerley, Inc., Agent Name: Pyxis Regulatory Consulting, Inc., 4110 136th Street Ct. NW., Gig Harbor, WA 98332.
66222 | Makhteshim Agan of North America, Inc., D/B/A Adama, 3120 Highwoods Blvd., Suite 100, Raleigh, NC 27604.
70385 | Prorestore Products, Agent Name: Lewis & Harrison, LLC, 122 C Street NW., Suite 505, Washington, DC 20001.
72138 | White Cap, Inc., Agent Name: Delta Analytical Corp., 12510 Prosperity Drive, Suite 160, Silver Spring, MD 20904.
73049 | Valent Biosciences Corporation, 870 Technology Way, Libertyville, IL 60048-6316.
87538 | Coeus Technology, Inc., 5540 West 53rd Street Parkway, Anderson, IN 46013.
89816 | Mebrom Corp., Agent Name: PRA Registrations, LLC, 8595 Collier Blvd., Suite 107-51, Naples, FL 34114.
90736 | Jiangsu Fengdeng Crop Science Co., Ltd., Agent Name: Pyxis Regulatory Consulting, Inc., 4110 136th St., CT NW., Gig Harbor, WA 98332.
91411 | Kocide, LLC, Agent Name: Wagner Regulatory Associates, Inc., P.O. Box 640, Hockessin, DE 19707.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. EPA proposes to include the following provisions for the treatment of any existing stocks of the products listed in Table 1 and Table 2 of Unit II.

A. For Products 706-69, 10324-169, 10324-174, 10324-184, 10324-197, 10324-218, 10807-438 and 33176-24.

The registrant has requested to the Agency via letter to sell existing stocks for an 18-month period for products 706-69, 10324-169, 10324-174, 10324-184, 10324-197, 10324-218, 10807-438 and 33176-24.

Because the Agency has identified no significant potential risk concerns associated with these pesticide products, upon cancellation, EPA anticipates allowing registrants to sell and distribute existing stocks of these products for 1 year and 6 months, after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. For All Other Products Identified in Table 1 and Table 2 of Unit II.

Because the Agency has identified no significant potential risk concerns associated with these pesticide products, upon cancellation of the products or termination of uses identified in Table 1 and Table 2 of Unit II., EPA anticipates allowing registrants to sell and distribute existing stocks of these products for 1 year after publication of the Cancellation Order in the Federal Register. Thereafter, registrants will be prohibited from selling or distributing the pesticides identified in Table 1 and Table 2 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: March 2, 2017.
Delores Barber,
Director, Information Technology and Resources Management Division, Office of Pesticide Programs.

[FR Doc. 2017-07138 Filed 4-7-17; 8:45 am]

BILLING CODE 6560-50-P